DEPARTMENT OF COMMERCE

National Oceanic and Atmospheric Administration

[I.D. 100401D]

Pacific Fishery Management Council; Public Meeting

AGENCY: National Marine Fisheries Service (NMFS), National Oceanic and Atmospheric Administration (NOAA), Commerce.

ACTION: Notice of public meeting.

SUMMARY: The Pacific Fishery Management Council's (Council) Highly Migratory Species Plan Development Team (HMSPDT) will hold a work session, which is open to the public.

DATES: The HMSPDT will meet on Wednesday, November 7, 2001 and Thursday, November 8, 2001, from 8:30 a.m. to 5 p.m., and on Friday, November 9, 2001, from 8:30 a.m. until business for the day is completed.

ADDRESSES: The work session will be held at the Hubbs-Sea World Research Institute, East Conference Room, 2595 Ingraham Street, San Diego, CA 92109, telephone: 619-226-3870.

Council address: Pacific Fishery Management Council, 7700 NE Ambassador Place, Suite 200, Portland, OR 97220-1384.

FOR FURTHER INFORMATION CONTACT: Dan Waldeck, Pacific Fishery Management Council, telephone: 503-326-6352.

SUPPLEMENTARY INFORMATION: The purpose of this meeting is to incorporate Council guidance stemming from the November Council meeting into a public review draft of the fishery management plan (FMP) for West Coast-based highly migratory species (HMS) fisheries. Following completion of the HMSPDT’s work, the draft FMP will be made available for public review. The Council is scheduled to consider final adoption of the HMS FMP at the Council’s March 2002 meeting. Please note, the HMSPDT meeting is a work session devoted to finalizing the draft FMP for public review. Public hearings will be scheduled at the November Council meeting. Dates and locations of these hearings will be published in subsequent Federal Register notices.

Although non-emergency issues not contained in the HMSPDT meeting agenda may come before the HMSPDT for discussion, those issues may not be the subject of formal HMSPDT action during this meeting. HMSPDT action will be restricted to those issues specifically listed in this document and any issues arising after publication of this document that require emergency action under section 305(c) of the Magnuson-Stevens Fishery Conservation and Management Act, provided the public has been notified of the HMSPDT's intent to take final action to address the emergency.

Special Accommodations

The meeting is physically accessible to people with disabilities. Requests for sign language interpretation or other auxiliary aids should be directed to Ms. Carolyn Porter at (503) 326-6352 at least 5 days prior to the meeting date.

Dated: October 5, 2001.
Richard W. Surdi,
Acting Director, Office of Sustainable Fisheries, National Marine Fisheries Service.

[FR Doc. 01-25721 Filed 10-11-01; 8:45 am]

BILLING CODE 3510-22-S